DEPARTMENT OF ENERGY

Federal Energy Regulatory Commission

[Docket Nos. CP07-62-000 and CP07-63-000]

AES Sparrows Point LNG and Mid Atlantic Express, L.L.C.; Notice of FERC Staff Attendance

October 23, 2007.

On October 30, 2007, staff of the Office of Energy Projects (OEP) will meet with representatives of the National Association of State Fire Marshalls (NASFM). NASFM, on behalf of civic leaders, have requested a meeting with staff to discuss the Commission's review process for LNG proposals.

The meeting will be held on Tuesday October 30, 2007 at 2 p.m. (EST), Room No. 3M-3, at the Commission Headquarters in Washington, DC.

Information concerning any changes to the above may be obtained from the Commission's Office of External Affairs at (202) 502-8004 or toll free at 1-(866) 208-FERC (208-3372).

Kimberly D. Bose,
Secretary.

[FR Doc. E7-21233 Filed 10-26-07; 8:45 am]

BILLING CODE 6717-01-P